DEPARTMENT OF TRANSPORTATION

Surface Transportation Board

[Docket No. FD 35776]

Union Pacific Railroad Company—Operation Exemption—In Bexar and Wilson Counties, Tex.

Union Pacific Railroad Company (UP), a Class I rail carrier, has filed a verified notice of exemption under 49 CFR 1150.31 to operate as a rail common carrier over approximately 7,391 feet of track between milepost 16.1 and milepost 17.5 in Bexar and Wilson Counties, Tex. (the Line).

According to UP, the Line lies entirely within a right-of-way formerly occupied by a line of railroad that was abandoned in 1994 by UP's predecessor, the Southern Pacific Transportation Company. UP states that following the abandonment, the track and ties were removed but UP retained ownership of the right-of-way, which has not been used for any non-rail purposes.

According to UP, in 2012, it was approached by a potential customer, Frac Resources, LP (Frac Resources), interested in reinstating rail service on the Line, and, in order to facilitate rail service to its desired location on the Line, Frac Resources constructed 7,391 feet of track to reach its facility. UP states that as plans for rail service developed, the parties determined that the best course of action was for UP to operate the Line as a rail common carrier due primarily to the potential for additional customers on the Line. To this end, UP purchased the Line from Frac Resources.¹

¹ According to UP, at the time of the purchase the Line was properly classified either as excepted track pursuant to 49 U.S.C. 10906 or a private track outside the Board's jurisdiction. Thus, UP asserts that Board authority was not needed for UP to purchase the Line.

The earliest the transaction can be consummated is November 20, 2013, the effective date of the exemption (30 days after the exemption was filed).

If the verified notice contains false or misleading information, the exemption is void ab initio. Petitions to revoke the exemption under 49 U.S.C. 10502(d) may be filed at any time. The filing of a petition to revoke will not automatically stay the effectiveness of the exemption. Petitions to stay must be filed no later than November 13, 2013 (at least 7 days before the exemption becomes effective).

An original and 10 copies of all pleadings, referring to Docket No. FD 35776, must be filed with the Surface Transportation Board, 395 E Street SW., Washington, DC 20423-0001. In addition, a copy of each pleading must be served on Jeremy M. Berman, Union Pacific Railroad Company, 1400 Douglas St., STOP 1580, Omaha, NE 68179.

Board decisions and notices are available on our Web site at www.stb.dot.gov.

Decided: October 31, 2013.
By the Board, Rachel D. Campbell, Director, Office of Proceedings.
Jeffrey Herzig,
Clearance Clerk.

[FR Doc. 2013-26592 Filed 11-5-13; 8:45 am]

BILLING CODE 4915-01-P